Proclamation 10438 of August 31, 2022

National Wilderness Month, 2022

By the President of the United States of America

A Proclamation

From the peaks of the Sierras to the rolling foothills of the Alleghenies, our Nation's wilderness boasts national treasures that provide opportunities for discovery, wonder, and serenity. They are also the current and ancestral homelands of Tribal Nations and Indigenous peoples, many of whom have deep cultural, historic, and spiritual connections to these places. During National Wilderness Month, let us express gratitude for lands and waters that remain in their natural condition, acknowledge the importance of making public lands accessible to all Americans, and rededicate ourselves to conserving and protecting the earth for future generations.

When designated wilderness areas are left intact, they defend us against climate change, keep us resilient when natural disasters strike, and create a refuge for biodiversity. Our Nation's forests offset 10 percent of our greenhouse gas (GHG) emissions every year. Native grasslands, wetlands, and other healthy soils retain water at faster rates, protecting us against flooding and offering drought relief for surrounding vegetation. Owing to the beauty of these places—and perhaps anticipating their environmental importance—President Lyndon B. Johnson signed into law the 1964 Wilderness Act and created the National Wilderness Preservation System. In the years since, the Congress has designated over 800 wilderness areas comprising more than 111 million acres of land.

Still, America's natural spaces are in danger. Extreme wildfires threaten to destroy our woodlands. Rising tides imperil our coastlines. Runoff from toxic chemicals pollutes our rivers and endangers species. Even if designated wilderness areas appear safe from harm for now, the unpredictable nature of climate change and biodiversity loss looms over our entire Nation.

In response, my Administration has set ambitious goals to scale back our GHG emissions and chart a new course with clean energy. We pledged to reduce emissions by up to 52 percent by 2030, achieve 100 percent carbon pollution-free electricity by 2035, and create an economy with net-zero emissions by 2050. We set the first-ever national conservation goal through the America the Beautiful Initiative to voluntarily conserve at least 30 percent of lands and waters in the United States by 2030. We are funding ecosystem restoration and reforestation efforts with billions of dollars from the Bipartisan Infrastructure Law and through the America the Beautiful Challenge, which merges Federal investments with private and philanthropic donations to boost conservation. We are making strategic investments through the Great American Outdoors Act to conserve at-risk lands, including critical habitats and migration corridors. On Earth Day, I signed an Executive Order to strengthen our Nation's, and the world's, vitally important forests.

As we reflect upon the work that remains before us, we must acknowledge that not all Americans share equal access to public lands. I remain committed to ensuring that everyone can benefit from the natural beauty and bountiful gifts of our wild spaces. I also remain committed to ensuring that Tribal Nations and Indigenous communities can continue sustainably using and connecting with their sacred lands. My Administration will honor those whose ancestors stewarded these lands since time immemorial.

This National Wilderness Month, we give thanks for the magnificent beauty that surrounds us, offer our gratitude to the men and women who maintain our public lands, and affirm our duty to safeguard designated wilderness areas and natural spaces across our world.

NOW, THEREFORE, I, JOSEPH R. BIDEN JR., President of the United States of America, by virtue of the authority vested in me by the Constitution and the laws of the United States, do hereby proclaim September 2022 as National Wilderness Month. I encourage all Americans to experience our Nation's outdoor heritage, to recreate responsibly and to leave no trace, to celebrate the value of preserving an enduring wilderness, and to strengthen our commitment to protecting these vital lands and waters now and for future generations.

IN WITNESS WHEREOF, I have hereunto set my hand this thirty-first day of August, in the year of our Lord two thousand twenty-two, and of the Independence of the United States of America the two hundred and forty-seventh.

[FR Doc. 2022-19303

Filed 9-2-22; 8:45 am]

Billing code 3395-F2-P